DEPARTMENT OF COMMERCE

Census Bureau

Proposed Information Collection; Comment Request; 2010 Coverage Follow-up Telephone Operation

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before November 24, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Frank Vitrano, U.S. Census Bureau, Room 3H174, Washington, DC 20233-9200, 301-763-3961 (or via e-mail at frank.a.vitrano@census.gov).

SUPPLEMENTARY INFORMATION:

I. Abstract

The Census Bureau has completed four studies designed to evaluate the efficacy of modified procedures for improving coverage through the use of a coverage follow-up of the population and its housing: (1) The 2004 Census Test Coverage Research Follow-up (OMB Control Number 0607-0910); (2) the 2005 National Census Test Coverage Follow-up (OMB Control Number 0607-0916); (3) the 2006 Census Test Coverage Follow-up (OMB Control Number 0607-0923); and (4) the 2008 Census Dress Rehearsal Coverage Follow-up Telephone Operation (OMB Control Number 0607-0946).

Historically, the decennial census has been affected by undercounts that affect certain demographic groups (such as babies and minorities), and people in certain living situations (such as renters who move often and people whose residence is complicated or ambiguous). The 2010 Coverage Follow-up (CFU) telephone operation will serve to clarify initial enumeration responses in an effort to improve within-household coverage.

Coverage interviews in the decennial censuses traditionally involve a second interview with the respondent to determine if changes should be made to their household roster as reported on their initial census return. The questions in the CFU interview attempt to determine if people were omitted and/or erroneously enumerated. Corrections to the roster are made, where necessary, and are based on the residence rule for 2010 Census.

The 2010 CFU telephone operation will be conducted April 26, 2010 through August 13, 2010.

II. Method of Collection

The CFU telephone operation will be administered using computer-assisted telephone interviews. It is estimated that 6,000,000 households will be included in the 2010 CFU telephone universe. This universe is selected based on the following criteria:

• Initial census housing unit returns that responded “yes” to either coverage question;

• Initial census returns that have a count discrepancy between the reported household population count and the actual number of persons recorded on the census form;

• Initial census returns containing more than six persons;

• Initial returns that are matched against an administrative records database to identify potential undercount; and

• Initial census returns that are computer-matched to determine possible duplicate person links.

The CFU interview includes probes about any of the following situations that seem applicable based on the household's responses on the questionnaire:

• Types of missing people,

• Where college students live,

• Where children in custody arrangements spend most of their time,

• Where those who vacation spend most of their time,

• If anyone else in the household stays anywhere else any part of the time, and

• If anyone stayed in a facility where groups of people stay.

When anyone is identified as potentially counted or omitted in error, Census then ask questions to establish the appropriate census residence of that person according to the residence rules in effect for the 2010 Census.

We will contact respondents using telephone numbers provided by respondents on the initial census questionnaire and/or provided through a phone number look-up service through a commercial vendor. These interviews will be conducted at commercial call centers using computer-assisted telephone interviewing (CATI). The CATI instrument will be in English and Spanish. As in previous censuses, we will not conduct field interviews as part of this effort due to the extremely high cost.

III. Data

OMB Control Number: 0607-0946.

Form Number: D-1302I, Coverage Follow-Up Telephone Interview Instrument (English, Spanish).

Type of Review: Regular submission.

Affected Public: Individuals or households.

Estimated Number of Respondents: 6,000,000.

Estimated Time per Response: 10 minutes.

Estimated Total Annual Burden Hours: 1,000,000.

Estimated Total Annual Cost: $0.

Respondent's Obligation: Mandatory.

Legal Authority: Title 13 of the United States Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 19, 2008.
Gwellnar Banks,
Management Analyst, Office of the Chief Information Officer.

[FR Doc. E8-22414 Filed 9-23-08; 8:45 am]

BILLING CODE 3510-07-P